DEPARTMENT OF ENERGY

Federal Energy Regulatory Commission

Sunshine Act Meeting

June 6, 2001.

The following notice of meeting is published pursuant to section 3(a) of the Government in the Sunshine Act (Pub. L. 94-409), 5 U.S.C 552b:

AGENCY HOLDING MEETING: Federal Energy Regulatory Commission.

DATE AND TIME: June 13, 2001., 10:00 A.M.

PLACE: Room 2C, 888 First Street, N.E., Washington, D.C. 20426.

STATUS: Open.

MATTERS TO BE CONSIDERED: Agenda.

Note: Items listed on the agenda may be deleted without further notice.

CONTACT PERSON FOR MORE INFORMATION: David P. Boergers, Secretary, Telephone (202) 208-0400. For a recording listing items stricken from or added to the meeting, call (202) 208-1627.

This is a list of matters to be considered by the Commission. It does not include a listing of all papers relevant to the items on the agenda; however, all public documents may be examined in the Reference and Information Center.

768th—Meeting June 13, 2001, Regular Meeting, 10:00 A.M.

Consent Agenda—Markets, Tariffs and Rates—Electric

CAE-1.

DOCKET#ER01-1810,000, AMEREN ENERGY MARKETING COMPANY

CAE-2. OMITTED

CAE-3.

DOCKET#ER01-1229,000, VALLEY ELECTRIC ASSOCIATION, INC.

OTHER#SER01-1229,001, VALLEY ELECTRIC ASSOCIATION, INC.

CAE-4.

DOCKET#ER01-1866,000, ENTERGY SERVICES, INC.

OTHER#SER01-1593,000, ENTERGY SERVICES, INC.

ER01-1593,001, ENTERGY SERVICES, INC.

CAE-5.

DOCKET#ER01-1718,000, DYNEGY POWER MARKETING, INC.

OTHER#SER00-2998,001, SOUTHERN COMPANY SERVICES, INC.

ER00-2999,001, SOUTHERN COMPANY SERVICES, INC.

ER00-3000,001, SOUTHERN COMPANY SERVICES, INC.

ER00-3001,001, SOUTHERN COMPANY SERVICES, INC.

ER01-1718,001, DYNEGY POWER MARKETING, INC.

CAE-6.

DOCKET#ER01-2076,000, NEW YORK INDEPENDENT SYSTEM OPERATOR, INC.

CAE-7.

DOCKET#ER00-3591,006, NEW YORK INDEPENDENT SYSTEM OPERATOR, INC.

OTHER#SER00-1969,007, NEW YORK INDEPENDENT SYSTEM OPERATOR, INC.

CAE-8.

DOCKET#ER01-200,000, CINERGY SERVICES, INC.

OTHER#SER01-200,001, CINERGY SERVICES, INC.

CAE-9.

DOCKET#ER01-1306,000, CARGILL-ALLIANT, LLC

CAE-10.

DOCKET#EC96-19,055, CALIFORNIA INDEPENDENT SYSTEM OPERATOR CORPORATION

OTHER#SER96-1663,058, CALIFORNIA INDEPENDENT SYSTEM OPERATOR CORPORATION

CAE-11.

OMITTED

CAE-12.

DOCKET#ER00-1483,001, NEW YORK INDEPENDENT SYSTEM OPERATOR, INC.

CAE-13.

DOCKET#EC01-91,000, PACIFICORP

CAE-14.

DOCKET#EC01-63,000, NIAGARA MOHAWK HOLDINGS, INC. AND NATIONAL GRID USA

OTHER#EL01-56,000, NIAGARA MOHAWK HOLDINGS, INC. AND NATIONAL GRID USA

CAE-15.

OMITTED

CAE-16.

DOCKET#TX00-1,001, UNITED STATES DEPARTMENT OF ENERGY-WESTERN AREA POWER ADMINISTRATION, COLORADO RIVER STORAGE PROJECT MANAGEMENT CENTER

OTHER#SER00-896,001, PUBLIC SERVICE COMPANY OF NEW MEXICO

CAE-17.

DOCKET#OA96-81,001, INDIANAPOLIS POWER & LIGHT COMPANY

CAE-18.

DOCKET#ER98-1106,001, NEW ENGLAND POWER COMPANY, BANGOR HYDRO-ELECTRIC COMPANY, BOSTON EDISON COMPANY, CENTRAL MAINE POWER COMPANY, CENTRAL VERMONT PUBLIC SERVICE CORPORATION, COMMONWEALTH ELECTRIC COMPANY, FITCHBURG GAS AND ELECTRIC LIGHT COMPANY, GREEN MOUNTAIN POWER CORPORATION, MONTAUP ELECTRIC COMPANY, NORTHEAST UTILITIES COMPANY, UNITED ILLUMINATING COMPANY AND VERMONT ELECTRIC POWER COMPANY

CAE-19.

DOCKET#ER99-1142,006, NEW ENGLAND POWER POOL

OTHER#SER99-2892,001, NEW ENGLAND POWER POOL

CAE-20.

DOCKET#EL00-45,001, WISCONSIN PUBLIC POWER, INC. V. WISCONSIN POWER AND LIGHT COMPANY AND ALLIANT ENERGY, INC.

CAE-21.

DOCKET#OA96-194,007, NIAGARA MOHAWK POWER CORPORATION

CAE-22.

DOCKET#ER00-3316,001, AMERICAN TRANSMISSION COMPANY, LLC

CAE-23.

DOCKET#RT01-67 002, GRIDFLORIDA LLC, FLORIDA POWER & LIGHT COMPANY, FLORIDA POWER CORPORATION AND TAMPA ELECTRIC COMPANY

CAE-24.

DOCKET#OA01-5, 000, CITIZENS COMMUNICATIONS COMPANY

CAE-25.

OMITTED

CAE-26.

DOCKET#EL01-69 000, FIRSTENERGY OPERATING COMPANIES AND AMERICAN TRANSMISSION SYSTEMS, INC.

CAE-27.

DOCKET#EL01-59,000, TRANSÉNERGIE U.S. LTD. AND CROSS SOUND CABLE COMPANY, LLC

OTHER#SEC01-110,000, TRANSÉNERGIE U.S. LTD. AND CROSS SOUND CABLE COMPANY, LLC

CAE-28.

DOCKET#EL01-51,000, DETROIT EDISON COMPANY

OTHER#SEL01-51,001, DETROIT EDISON COMPANY

EL01-51,002, DETROIT EDISON COMPANY

ER01-1649,000, DETROIT EDISON COMPANY

ER01-1649,001, DETROIT EDISON COMPANY

ER01-1649,002, DETROIT EDISON COMPANY

CAE-29.

DOCKET#EL01-78,000, LG&E ENERGY MARKETING, INC.

CAE-30.

DOCKET#OA97-24,005, CENTRAL POWER AND LIGHT COMPANY, WEST TEXAS UTILITIES COMPANY, SOUTHWESTERN ELECTRIC POWER COMPANY AND PUBLIC SERVICE COMPANY OF OKLAHOMA

OTHER#SER97-881,001, CENTRAL POWER AND LIGHT COMPANY, WEST TEXAS UTILITIES COMPANY, SOUTHWESTERN ELECTRIC POWER COMPANY AND PUBLIC SERVICE COMPANY OF OKLAHOMA

ER98-4609,002, CENTRAL POWER AND LIGHT COMPANY, WEST TEXAS UTILITIES COMPANY, SOUTHWESTERN ELECTRIC POWER COMPANY AND PUBLIC SERVICE COMPANY OF OKLAHOMA

ER98-4611,003, CENTRAL POWER AND LIGHT COMPANY, WEST TEXAS UTILITIES COMPANY, SOUTHWESTERN ELECTRIC POWER COMPANY AND PUBLIC SERVICE COMPANY OF OKLAHOMA

CAE-31.

DOCKET#ER01-1847,000, ALLEGHENY ENERGY SUPPLY COMPANY, LLC

OTHER#SER00-2998,001 SOUTHERN COMPANY SERVICES, INC.

ER00-2999,001, SOUTHERN COMPANY SERVICES, INC.

ER00-3000,001, SOUTHERN COMPANY SERVICES, INC.

ER00-3001,001, SOUTHERN COMPANY SERVICES, INC.

CAE-32.

OMITTED

CAE-33.

DOCKET#EL00-62,004, ISO NEW ENGLAND, INC. AND NEW ENGLAND POWER POOL

OTHER#SEL00-62,006, ISO NEW ENGLAND, INC. AND NEW ENGLAND POWER POOL

EL00-62,008, ISO NEW ENGLAND, INC. AND NEW ENGLAND POWER POOL

EL00-62,011, ISO NEW ENGLAND, INC. AND NEW ENGLAND POWER POOL

EL00-62,012, ISO NEW ENGLAND, INC. AND NEW ENGLAND POWER POOL

EL00-62,014, ISO NEW ENGLAND, INC. AND NEW ENGLAND POWER POOL

EL00-62,016, ISO NEW ENGLAND, INC. AND NEW ENGLAND POWER POOL

EL00-62,019, ISO NEW ENGLAND, INC. AND NEW ENGLAND POWER POOL

EL00-62,024, ISO NEW ENGLAND, INC. AND NEW ENGLAND POWER POOL

CAE-34.

DOCKET#ER98-3853,005, NEW ENGLAND POWER POOL

Consent Agenda—Markets, Tariffs and Rates—Gas

CAG-1.

DOCKET#RP01-416,000, NORTHWEST PIPELINE CORPORATION

CAG-2.

OMITTED

CAG-3.

DOCKET#RP01-423,000, COLUMBIA GAS TRANSMISSION CORPORATION

CAG-4.

DOCKET#RP01-419,000, TRANSCOLORADO GAS TRANSMISSION COMPANY

CAG-5.

DOCKET#PR01-5,000, MAGIC VALLEY PIPELINE, L.P.

CAG-6.

DOCKET#PR01-8,000, ARKANSAS OKLAHOMA GAS CORPORATION

CAG-7.

DOCKET#RP01-93,000, KERN RIVER GAS TRANSMISSION COMPANY

CAG-8.

DOCKET#PR00-9,000, EPGT TEXAS PIPELINE, L.P.

CAG-9.

DOCKET#RP95-408,040, COLUMBIA GAS TRANSMISSION CORPORATION

CAG-10.

DOCKET#RP00-223,004, NORTHERN NATURAL GAS COMPANY

CAG-11.

OMITTED

CAG-12.

DOCKET#RP01-278,001, TEXAS GAS TRANSMISSION CORPORATION

CAG-13.

DOCKET#RP95-197,040, TRANSCONTINENTAL GAS PIPE LINE CORPORATION

OTHER#SRP97-71,028, TRANSCONTINENTAL GAS PIPE LINE CORPORATION

CAG-14.

DOCKET#MG00-6,007, DOMINION TRANSMISSION, INC.

OTHER#SMG00-6,008, DOMINION TRANSMISSION, INC.

CAG-15.

DOCKET#OR00-3,000, COLONIAL PIPELINE COMPANY

OTHER#SOR95-9,000, COLONIAL PIPELINE COMPANY

Consent Agenda—Energy Projects—Hydro

CAH-1.

DOCKET#P-2436,139, CONSUMERS ENERGY COMPANY

CAH-2.

DOCKET#P-6879,027, SOUTHEASTERN HYDRO-POWER, INC.

OTHER#SP-6879,026, SOUTHEASTERN HYDRO-POWER, INC.

CAH-3.

OMITTED

CAH-4.

DOCKET#P-5,045, PPL MONTANA, LLC, CONFEDERATED SALISH AND KOOTENAI TRIBES OF THE FLATHEAD RESERVATION

Consent Agenda—Energy Projects—Certificates

CAC-1.

DOCKET#CP00-68,000, QUESTAR PIPELINE COMPANY

OTHER#SCP00-68,001, QUESTAR PIPELINE COMPANY

CAC-2.

DOCKET#CP98-131,004, VECTOR PIPELINE L.P.

CAC-3.

DOCKET#CP01-179,000, GEORGIA STRAIGHT CROSSING PIPELINE LP

CAC-4.

DOCKET#CP96-206,001, TRANSCONTINENTAL GAS PIPE LINE CORPORATION

OTHER#SCP96-207,001, WILLIAMS GAS PROCESSING—GULF COAST COMPANY, L.P.

CAC-5.

DOCKET#CP01-66,000, EGAN HUB PARTNERS, L.P.

CAC-6.

DOCKET#CP00-48,003, TENNESSEE GAS PIPELINE COMPANY

OTHER#S CP00-48,004, TENNESSEE GAS PIPELINE COMPANY

ENERGY PROJECTS—HYDRO AGENDA

H-1.

RESERVED

ENERGY PROJECTS—CERTIFICATES AGENDA

C-1.

RESERVED

MARKETS, TARIFFS AND RATES—ELECTRIC AGENDA

E-1.

RESERVED

MARKETS, TARIFFS AND RATES—GAS AGENDA

G-1.

RESERVED

David P. Boergers,
Secretary.

[FR Doc. 01-14951 Filed 6-8-01; 5:08 pm]

BILLING CODE 6717-01-P